DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Douglas (FEMA Docket No.: B-2100). | Town of Castle Rock (20-08-0462P). | The Honorable Jason Gray, Mayor, Town of Castle Rock, 100 North Wilcox Street, Castle Rock, CO 80104. | Water Department, 175 Kellog Court, Castle Rock, CO 80109. | Mar. 12, 2021 | 080050
Douglas (FEMA Docket No.: B-2100). | Unincorporated areas of Douglas County (20-08-0462P). | Mr. Doug DeBord, Douglas County Manager, 100 3rd Street, Castle Rock, CO 80104. | Department of Public Works, Engineering Department, 100 3rd Street, Castle Rock, CO 80104. | Mar. 12, 2021 | 080049
Florida:
Broward (FEMA Docket No.: B-2073). | City of Fort Lauderdale (19-04-3955P). | The Honorable Dean J. Trantalis, Mayor, City of Fort Lauderdale, 100 North Andrews Avenue, 8th Floor, Fort Lauderdale, FL 33311. | Department of Sustainable Development, 700 Northwest 19th Avenue, Fort Lauderdale, FL 33311. | Mar. 1, 2021 | 125105
Broward (FEMA Docket No.: B-2073). | City of Tamarac (19-04-3955P). | The Honorable Michelle J. Gomez, Mayor, City of Tamarac, 7525 Northwest 88th Avenue, Tamarac, FL 33321. | City Hall, 7525 Northwest 88th Avenue, Tamarac, FL 33321. | Mar. 1, 2021 | 120058
Collier (FEMA Docket No.: B-2100). | City of Naples (20-04-5222P). | The Honorable Teresa Heitmann, Mayor, City of Naples, 735 8th Street South, 2nd Floor, Naples, FL 34102. | Building Department, 295 Riverside Circle, Naples, FL 34102. | Mar. 8, 2021 | 125130
Lake (FEMA Docket No.: B-2076). | City of Leesburg (20-04-1242P). | Mr. Al Minner, Manager, City of Leesburg, 501 West Meadow Street, Leesburg, FL 34748. | City Hall, 501 West Meadow Street, Leesburg, FL 34748. | Mar. 12, 2021 | 120136
Lake (FEMA Docket No.: B-2076). | Unincorporated areas of Lake County (20-04-1242P). | The Honorable Jeff Cole, Manager, Lake County, P.O. Box 7800, Tavares, FL 32778. | Lake County Administration Building, 315 West Main Street, Tavares, FL 32778. | Mar. 12, 2021 | 120421
Leon (FEMA Docket No.: B-2073). | City of Tallahassee (19-04-5234P). | The Honorable John E. Dailey, Mayor, City of Tallahassee, 300 South Adams Street, Tallahassee, FL 32301. | Stormwater Management Department, 408 North Adams Street, Tallahassee, FL 32301. | Feb. 22, 2021 | 120144
Leon (FEMA Docket No.: B-2073). | Unincorporated areas of Leon County (19-04-5234P). | The Honorable Bryan Desloge, Chairman, Leon County Commission, 301 South Monroe Street, Tallahassee, FL 32301. | Leon County Department of Development Support and Environmental Management, 435 North Macomb Street, 2nd Floor, Tallahassee, FL 32301. | Feb. 22, 2021 | 120143
Monroe (FEMA Docket No.: B-2073). | Unincorporated areas of Monroe County (20-04-4048P). | The Honorable Heather Carruthers, Mayor, Monroe County Board of Commissioners, 500 Whitehead Street, Suite 102, Key West, FL 33040. | Monroe County Building Department, 2798 Overseas Highway, Suite 300, Marathon, FL 33050. | Feb. 22, 2021 | 125129
Pinellas (FEMA Docket No.: B-2076). | City of Clearwater (20-04-4362P). | The Honorable Frank V. Hibbard, Mayor, City of Clearwater, P.O. Box 4748, Clearwater, FL 33758. | Engineering Department, 100 South Myrtle Avenue, Clearwater, FL 33756. | Mar. 11, 2021 | 125096
Sarasota (FEMA Docket No.: B-2076). | Unincorporated areas of Sarasota County (20-04-5135P). | The Honorable Michael A. Moran, Chairman, Sarasota County Board of Commissioners, 1660 Ringling Boulevard, Sarasota, FL 34236. | Sarasota County Planning and Development Services Department, 1001 Sarasota Center Boulevard, Sarasota, FL 34240. | Mar. 12, 2021 | 125144
Maryland:
Anne Arundel (FEMA Docket No.: B-2076). | Unincorporated areas of Anne Arundel County (20-03-1079P). | The Honorable Steuart Pittman, Anne Arundel County Executive, 44 Calvert Street, Annapolis, MD 21401. | Anne Arundel County Heritage Office Complex, 2664 Riva Road, Annapolis, MD 21401. | Mar. 9, 2021 | 240008
Prince George's (FEMA Docket No.: B-2076). | City of Laurel (20-03-1079P). | The Honorable Craig A. Moe, Mayor, City of Laurel, 8103 Sandy Spring Road, Laurel, MD 20707. | City Hall, 8103 Sandy Spring Road, Laurel, MD 20707. | Mar. 9, 2021 | 240053
Prince George's (FEMA Docket No.: B-2076). | Unincorporated areas of Prince George's County (20-03-1079P). | The Honorable Angela D. Alsobrooks, Prince George's County Executive, 14741 Governor Oden Bowie Drive, Upper Marlboro, MD 20772. | Prince George's County Department of Environment, 1801 McCormick Drive, Suite 500, Largo, MD 20774. | Mar. 9, 2021 | 245208
Montana: Gallatin (FEMA Docket No.: B-2073). | City of Bozeman (20-08-0561P). | Mr. Jeff Mihelich, Manager, City of Bozeman, P.O. Box 1230, Bozeman, MT 59771. | Alfred M. Stiff Building, 20 East Olive Street, 1st Floor, Bozeman, MT 59715. | Mar. 1, 2021 | 300028
North Carolina:
Forsyth (FEMA Docket No.: B-2106). | City of Winston-Salem (20-04-2834P). | The Honorable Allen Joines, Mayor, City of Winston-Salem, P.O. Box 2511, Winston-Salem, NC 27102. | Inspection Department, 100 East 1st Street, Suite 328, Winston-Salem, NC 27101. | Mar. 4, 2021 | 375360
Forsyth (FEMA Docket No.: B-2106). | Unincorporated areas of Forsyth County (20-04-2834P). | The Honorable David R. Plyler, Chairman, Forsyth County Board of Commissioners, 201 North Chestnut Street, Winston-Salem, NC 27101. | Forsyth County Planning Board, Department, 309 East Market Street, Smithfield, NC 27577. | Mar. 4, 2021 | 375349
Pamlico (FEMA Docket No.: B-2076). | Town of Vandemere (20-04-5047P). | The Honorable Judy H. Thaanum, Mayor, Town of Vandemere, P.O. Box 338, Vandemere, NC 28587. | Town Hall, 1042 Pennsylvania Avenue, Vandemere, NC 28587. | Mar. 11, 2021 | 370438
Pennsylvania:
Allegheny (FEMA Docket No.: B-2100). | Township of Moon (20-03-0739P). | Ms. Dawn Lane, Manager, Township of Moon, 1000 Beaver Grade Road, Moon Township, PA 15108. | Township Hall, 1000 Beaver Grade Road, Moon Township, PA 15108. | Mar. 12, 2021 | 421082
Allegheny (FEMA Docket No.: B-2076). | Township of Shaler (20-03-0720P). | The Honorable David Shutter, President, Township of Shaler Board of Commissioners, 300 Wetzel Road, Glenshaw, PA 15116. | Township Hall, 300 Wetzel Road, Glenshaw, PA 15116. | Mar. 1, 2021 | 421101
South Carolina:
Dillon (FEMA Docket No.: B-2076). | Town of Latta (20-04-2341P). | Mr. Jarett Taylor, Town of Latta Administrator, 107 Northwest Railroad Avenue, Latta, SC 29565. | Town Hall, 107 Northwest Railroad Avenue, Latta, SC 29565. | Feb. 24, 2021 | 450067
Dillon (FEMA Docket No.: B-2076). | Unincorporated areas of Dillon County (20-04-2341P). | The Honorable Stevie Grice, Chairman, Dillon County Council, P.O. Box 449, Dillon, SC 29536. | Dillon County Administrative Building, 211 West Howard Street, Dillon, SC 29536. | Feb. 24, 2021 | 450064
Texas:
Collin (FEMA Docket No.: B-2073). | City of McKinney (20-06-1287P). | The Honorable George Fuller, Mayor, City of McKinney, P.O. Box 517, McKinney, TX 75070. | Engineering Department, 221 North Tennessee Street, McKinney, TX 75069. | Mar. 1, 2021 | 480135
Dallas (FEMA Docket No.: B-2100). | City of Coppell (20-06-1839P). | The Honorable Karen Hunt, Mayor, City of Coppell, P.O. Box 9478, Coppell, TX 75019. | Department of Public Works, 265 East Parkway Boulevard, Coppell, TX 75019. | Feb. 22, 2021 | 480170
Dallas (FEMA Docket No.: B-2100). | City of Dallas (20-06-1839P). | The Honorable Eric Johnson, Mayor, City of Dallas, 1500 Marilla Street, Suite 5EN, Dallas, TX 75201. | Floodplain and Drainage Management Department, 320 East Jefferson Boulevard, Room 312, Dallas, TX 75203. | Feb. 22, 2021 | 480171
Dallas (FEMA Docket No.: B-2100). | City of Dallas (20-06-3047P). | The Honorable Eric Johnson, Mayor, City of Dallas, 1500 Marilla Street, Suite 5EN, Dallas, TX 75201. | Floodplain and Drainage Management Department, 320 East Jefferson Boulevard, Room 312, Dallas, TX 75203. | Mar. 1, 2021 | 480171
Dallas (FEMA Docket No.: B-2100). | City of Irving (20-06-1839P). | The Honorable Rick Stopfer, Mayor, City of Irving, 825 West Irving Boulevard, Irving, TX 75060. | Engineering Department, 825 West Irving Boulevard, Irving, TX 75060. | Feb. 22, 2021 | 480180
Guadalupe (FEMA Docket No.: B-2073). | City of Cibolo (20-06-0816P). | Mr. Robert T. Herrera, Manager, City of Cibolo, 200 South Main Street, Cibolo, TX 78108. | Geographic Information Systems (GIS) Department, 200 South Main Street, Cibolo, TX 78108. | Mar. 4, 2021 | 480267
Hays (FEMA Docket No.: B-2073). | Unincorporated areas of Hays County (20-06-1997P). | The Honorable Ruben Becerra, Hays County Judge, 111 East San Antonio Street, Suite 300, San Marcos, TX 78666. | Hays County Development Services Department, 2171 Yarrington Road, Kyle, TX 78640. | Mar. 11, 2021 | 480321
Tarrant (FEMA Docket No.: B-2076). | City of Arlington (20-06-2041P). | The Honorable Jeff Williams, Mayor, City of Arlington, P.O. Box 90231, Arlington, TX 76004. | Public Works and Transportation Department, 101 West Abram Street, Arlington, TX 76010. | Mar. 8, 2021 | 485454
Tom Green (FEMA Docket No.: B-2076). | City of San Angelo (20-06-2379P). | The Honorable Brenda Gunter, Mayor, City of San Angelo, 72 West College Avenue, San Angelo, TX 76903. | City Hall, 301 West Beauregard Avenue, San Angelo, TX 76902. | Feb. 22, 2021 | 480623

[FR Doc. 2021-08691 Filed 4-26-21; 8:45 am]

BILLING CODE 9110-12-P